DEPARTMENT OF THE INTERIOR

Minerals Management Service

Notice of Availability of the Proposed Notice of Sale (NOS) for Outer Continental Shelf (OCS) Oil and Gas Lease Sale 213 in the Central Planning Area (CPA) in the Gulf of Mexico (GOM)

AGENCY: Minerals Management Service, Interior.

ACTION: Notice of availability of the proposed NOS for proposed Sale 213.

SUMMARY: The MMS announces the availability of the proposed NOS for proposed Sale 213 in the CPA. This Notice is published pursuant to 30 CFR 256.29(c) as a matter of information to the public. With regard to oil and gas leasing on the OCS, the Secretary of the Interior, pursuant to section 19 of the OCS Lands Act, provides the affected states the opportunity to review the proposed Notice. The proposed Notice sets forth the proposed terms and conditions of the sale, including minimum bids, royalty rates, and rentals.

DATES: Comments on the size, timing, or location of proposed Sale 213 are due from the affected states within 60 days following their receipt of the proposed Notice. The final NOS will be published in the Federal Register at least 30 days prior to the date of bid opening. Bid opening is currently scheduled for March 17, 2010.

Please address any comments or questions related to the proposed changes to the lease terms as presented below to Dr. Marshall Rose, MMS, Chief, Economics Division, at (703) 787-1536 or marshall.rose@mms.gov within 30 days.

SUPPLEMENTARY INFORMATION: The MMS will use the recently revised Form MMS-2005 (October 2009) to convey leases. The form is available on the Internet at http://www.gomr.mms.gov/homepg/mmsforms/FormMMS-2005.pdf.

The proposed NOS for Sale 213 and a “Proposed Notice of Sale Package” containing information essential to potential bidders may be obtained from the Public Information Unit, Gulf of Mexico Region, Minerals Management Service, 1201 Elmwood Park Boulevard, New Orleans, Louisiana 70123-2394, Telephone: (504) 736-2519.

The MMS is accepting comments on the proposed revisions of the initial lease terms for blocks in water depths of 400 to less than 800 meters and 800 meters to less than 1600 meters. The proposed 5+3 term in 400 to less than 800 meters supersedes and replaces the previous 8-year lease term provisions for these water depths as provided by regulations at 30 CFR 256.37(a)(3) where commencement of an exploratory well is required within the first 5 years of the initial 8-year term to avoid lease cancellation. The 10-year initial lease term in 800 to less than 1600 meters is proposed to be changed to a 7-year initial lease term (commencement of an exploratory well within the initial primary lease term would extend the lease term to 10 years). Please address any comments or questions related to this matter to Dr. Marshall Rose, MMS, Chief, Economics Division, at (703) 787-1536 or marshall.rose@mms.gov within 30 days.

Dated: October 30, 2009.
S. Elizabeth Birnbaum,
Director, Minerals Management Service.

[FR Doc. E9-27489 Filed 11-13-09; 8:45 am]

BILLING CODE 4310-MR-P